NATIONAL SCIENCE FOUNDATION

Request for Information (RFI) on NSF Public Access Plan 2.0: Ensuring Open, Immediate, and Equitable Access to National Science Foundation Funded Research

AGENCY: National Science Foundation (NSF).

ACTION: Request for information.

SUMMARY: The National Science Foundation (NSF) is seeking public input from the science and engineering research and education community on implementing NSF Public Access Plan 2.0: Ensuring Open, Immediate, and Equitable Access to National Science Foundation Funded Research. This plan, described in SUPPLEMENTARY INFORMATION, represents an update to NSF current public access requirements in response to recent White House Office of Science and Technology Policy guidance. A primary consideration during the development of NSF's plan has been potential equity impacts of public access requirements. NSF's goal is to improve equity throughout the research life cycle, making data and opportunities available to all researchers, including those from marginalized communities and historically under-resourced institutions of higher education in the U.S. NSF is committed to considering the needs of the diverse US research community, including identifying possible unintended consequences that the plan and its implementation could produce.

DATES: Interested persons or organizations are invited to submit comments on or before 11:59 p.m. (EST) on January 2, 2024.

ADDRESSES: The preferred method of response is to complete as much of the online RFI as you wish. However, if you cannot or do not wish to access this tool, comments submitted in response to this notice may also be submitted by the following methods:

Email: PublicAccess2-RFI@nsf.gov. Email submissions should be machine-readable and not be copy-protected. Submissions should include “RFI Response: NSF Public Access 2.0” in the subject line of the message.

Mail: Attn. Martin Halbert, 2415 Eisenhower Ave., Alexandria, VA 22314.

Responses may address one or as many topics as desired from the enumerated list provided in this RFI, noting the corresponding number of the topic(s) to which the response pertains. Submissions must not exceed 3 pages (exclusive of cover page) in 11-point or larger font, with a page number provided on each page. Responses should include the name of the person(s) or organization(s) filing the comment, as well as the respondent type (e.g., academic institution, advocacy group, professional society, community-based organization, industry, member of the public, government, other). Respondent's role in the organization may also be provided (e.g., researcher, administrator, student, program manager, journalist) on a voluntary basis.

No business proprietary information, copyrighted information, or personally identifiable information (aside from that requested above) should be submitted in response to this RFI. Comments submitted in response to this RFI will be used internally at NSF and may be shared with other Federal agencies. Any online or public release of data will only be in aggregate form to protect the identity of submitters. Please note that all questions are optional.

FOR FURTHER INFORMATION CONTACT: For additional information, please direct questions to Martin Halbert at PublicAccess2-RFI@nsf.gov, (703) 292-5111.

SUPPLEMENTARY INFORMATION: The U.S. National Science Foundation Public Access Plan 2.0: Ensuring Open, Immediate, and Equitable Access to National Science Foundation Funded Research has been prepared in response to the memorandum dated August 25, 2022, from the White House Office of Science and Technology Policy, or OSTP, titled Ensuring Free, Immediate, and Equitable Access to Federally Funded Research, and signed by Alondra Nelson. It updates NSF's original public access plan, Today's Data, Tomorrow's Discoveries: Increasing Access to the Results of Research Funded by the National Science Foundation, dated March 18, 2015.

Broadly, Public Access Plan 2.0: Ensuring Open, Immediate, and Equitable Access to National Science Foundation Funded Research describes how:

• all peer-reviewed scholarly publications resulting from NSF-funded research will be made freely available and publicly accessible by default in the NSF Public Access Repository, or NSF-PAR, without embargo;

• such publications will be accessible for assistive technologies;

• scientific data associated with peer-reviewed publications resulting from NSF awards will be made available in disciplinary repositories;

• exceptions to the data-sharing requirements will be made based on legal, privacy, ethical, intellectual property and national security considerations; and

• persistent identifiers, or PIDs, and other critical information associated with peer-reviewed publications and data resulting from NSF-funded research will be collected and made publicly available in NSF-PAR.

NSF is committed to ensuring that its approach to public access enhances equity in the science and engineering ecosystem and wants to understand any potential barriers that may be faced by researchers in complying with new public access requirements. Responses may suggest areas of particular interest to the research community that inspire future NSF funding opportunities and development plans for NSF-PAR.

NSF seeks responses from all interested individuals and communities including—but not limited to—individual researchers, research institutions, libraries, scholarly societies, scholarly publishers, early career researchers, and students/educators. NSF is particularly interested in hearing from researchers new to public access at NSF, new to open science practices more generally, or working in fields or institutions with unique challenges in complying with public access requirements, to ensure that NSF is well-positioned to fully consider potential equity impacts as the plan is implemented.

Comments are welcome on all elements of NSF Public Access Plan 2.0 but would be particularly welcome for the issues/questions identified below. Please note that all questions are optional.

1. Overall, do you view public access requirements as having more positive or more negative effects on equity and inclusion in science (indicate one)?

• mostly positive

• somewhat positive

• neither positive nor negative

• somewhat negative

• mostly negative

2. Do you currently have access to data repositories that will enable you to comply with public access requirements? (indicate one)?

• Yes, I have access

• Yes, I have access, but it is limited

• No, I don't have access

• I don't know

3. What opportunities or benefits do you anticipate you and/or your institution would realize from the requirement that NSF-funded peer-reviewed publications be made available in the NSF Public Access Repository (NSF-PAR)? (Please limit response to 500 characters.)

4. What challenges or barriers do you anticipate personally facing while complying with the requirement that NSF-funded peer reviewed publications be made available in NSF-PAR? (Please limit response to 500 characters) What opportunities or benefits do you anticipate you and/or your institution would realize from the requirement that the data underlying your NSF-funded peer-reviewed publications be made publicly available? (Please limit response to 500 characters.)

5. What challenges or barriers do you anticipate personally facing while complying with the requirement that the data underlying your NSF-funded peer-reviewed publications be made publicly available? (Please limit response to 500 characters.)

6. How can NSF best engage affected communities regarding public access issues, in particular marginalized or underrepresented groups? (Please limit response to 500 characters.)

7. If you have any additional comments about NSF's Public Access Plan, please share them here. (Please limit response to 2,000 characters.)

8. What is your primary field of research, employment, or study (indicate one)?

• Astronomy and astrophysics

• Biological, agricultural, environmental life sciences

• Computer and information sciences

• Engineering

• Humanities or liberal arts

• Learning sciences/education research

• Library or communication sciences

• Mathematics and statistics

• Medical and health sciences

• Physical and geosciences (including atmospheric and ocean sciences)

• Social sciences

• Publisher (for profit)

• Publisher (society or non-profit)

• Other (please specify)

9. What type of institution(s) best describes where you work? (Note: if you hold a dual appointment, please indicate all that apply.)

• U.S. 4-year university; Doctoral-granting, high or very high research activity

• U.S. 4-year university; Doctoral-granting, other

• U.S. 4-year university or college; Masters-granting (i.e., no Doctoral programs offered)

• U.S. 4-year college or university; Baccalaureate-granting (i.e., no Doctoral or Masters programs offered)

• U.S. community or 2-year college

• U.S. university-affiliated research institute

• Government agency (Federal, State or local)

• Non-governmental, non-university affiliated research organization

• Non-profit organization (including tax-exempt, charitable organization and private foundation)

• For-profit company or organization

• Other (please specify)

10. If you work at a university, please indicate all categories that represent your university (indicate all that apply):

• Asian American and Native American Pacific Islander-Serving Institution (AANAPI)

• Hispanic Serving Institution (HSI)

• Historically Black College or University (HBCU)

• Minority serving Institution (MSI)

• Tribal College or University (TCU)

• Women's College or University

• Other

• None of the above

11. If you are engaged in academic research, in what stage of your career are you (indicate one)?

• undergraduate student

• graduate student

• early career researcher (<10 years post-Ph.D.)

• mid-career researcher (10-25 years post-Ph.D.)

• late-career researcher (<25 years post-Ph.D.)

• not applicable

12. What communities do you work with in your research (i.e., about whom or from whom data is collected)? Please indicate all that apply.

• American Indian or Alaska Native communities

• Asian communities

• Black or African American communities

• Latine/x/o/a communities

• LGBTIQA+ communities

• Native Hawaiian or Other Pacific Islander communities

• Persons with disabilities

• non-US-based communities

• communities with limited socioeconomic status

• not applicable

• Other (please specify)

13. Are you Hispanic or Latino?

• No, I am not Hispanic or Latino

• Yes, I am Mexican or Chicano

• Yes, I am Puerto Rican

• Yes, I am Cuban

• Yes, I am other Hispanic or Latino (please specify):

14. What is your racial background (indicate all that apply)?

• American Indian or Alaska Native—specify Tribal affiliations(s)

• Asian

• Black or African American

• Native Hawaiian or Other Pacific Islander

• White

15. Do you identify as a disabled person with respect to any of the following specific functions (indicate all that apply)?

• SEEING words or letters in ordinary newsprint (with glasses/contact lenses, if you usually wear them)

• HEARING in conversation with another person (with hearing aid or other assistive device, if you usually wear one)

• WALKING without human or mechanical assistance or using stairs

• LIFTING or carrying something as heavy as 10 pounds, such as a bag of groceries

• CONCENTRATING, REMEMBERING, or MAKING DECISIONS because of a physical, mental or emotional condition

• Other disability (please specify)

16. Is there anything else you would like to tell us about your identity that impacts the way you are perceived or your access to the scholarly ecosystem (e.g., age, gender identity, sexual orientation etc.) (Please limit response to 2,000 characters.).

Authority: 42 U.S.C. 1861, et al.

Dated: November 8, 2023.
Suzanne H. Plimpton,
Reports Clearance Officer, National Science Foundation.

[FR Doc. 2023-25267 Filed 11-15-23; 8:45 am]

BILLING CODE 7555-01-P